DEPARTMENT OF ENERGY

Federal Energy Regulatory Commission

[Project No. 1389-060]

Southern California Edison Company; Notice of Application Tendered for Filing With the Commission and Establishing Procedural Schedule for Licensing and Deadline for Submission of Final Amendments

Take notice that the following hydroelectric application has been filed with the Commission and is available for public inspection.

a. Type of Application: New Major License.

b. Project No.: 1389-060.

c. Date Filed: January 22, 2025.

d. Applicant: Southern California Edison Company (SCE).

e. Name of Project: Rush Creek Hydroelectric Project (project).

f. Location: The project is located on Rush Creek near the unincorporated community of June Lake in Mono County, California.

g. Filed Pursuant to: Federal Power Act, 16 U.S.C. 791(a)-825(r).

h. Applicant Contact: Matthew Woodhall, Relicensing Project Manager, SCE at (909) 362-1764 or matthew.woodhall@sce.com.

i. FERC Contact: Quinn Emmering, Project Coordinator at (202) 502-6382 or quinn.emmering@ferc.gov.

j. The application is not ready for environmental analysis at this time.

k. Project Description: The project is located primarily on federal lands within Inyo National Forest and the Ansel Adams Wilderness Area, both administered by the U.S. Department of Agriculture, Forest Service. Existing project facilities include: (1) the 50-foot-high, 463-foot-long Rush Meadows Dam impounding the 130-acre Waugh Lake; (2) the 84-foot-high, 688-foot-long Gem Dam impounding 256-acre Gem Lake; (3) the 30-foot-high, 278-foot-long Agnew Dam impounding 23-acre Agnew Lake; (4) a water conveyance system consisting of an approximately 4,584-foot-long buried steel flowline conveying water from Gem Dam to Agnew Junction, a 575-foot-long steel flowline from Agnew Dam to the Agnew valve house, and two 4,280-foot-long buried steel penstocks; (5) a powerhouse containing two impulse turbines and two horizontal-shaft generator units; (6) a 470-foot-long tailrace conveying water from the powerhouse to Rush Creek; (7) a 1.59-mile-long, 4-kilovolt (kV) power line, half of which is de-energized for future repairs; (8) a 150-foot-long, 2.4-kV power line; (9) an approximately 1.63-mile-long communication line; (10) incline railroads (tramways) used to transport personnel and equipment, including a 1,490-foot-long tramway from Agnew Lake to Gem Dam and a 4,280-foot-long tramway from the project powerhouse to Agnew Dam; (11) about 1,860 feet of trails to access project facilities; and (12) ancillary facilities. The project does not include any developed recreation facilities.

SCE proposes to: (1) decommission hydroelectric operations at Rush Meadows Dam and Agnew Dam, including partial removal of the two dams; (2) retrofit Gem Dam with a new spillway and reduce the height of the dam to facilitate compliance with seismic restrictions under a probable maximum flood event; and (3) continue hydroelectric operations at Gem Dam and the project powerhouse. SCE does not propose any additional generation capacity or new project facilities.

l. In addition to publishing this notice in the Federal Register, the Commission provides all interested persons an opportunity to view and/or print the contents of this notice, as well as other documents in the proceeding (e.g., license application) via the internet through the Commission's Home Page (http://www.ferc.gov), using the “eLibrary” link. Enter the docket number, excluding the last three digits in the docket number field to access the document (P-1389). For assistance, contact FERC at FERCOnlineSupport@ferc.gov, (866) 208-3676 (toll free), or (202) 502-8659 (TTY).

You may also register online at https://ferconline.ferc.gov/FERCOnline.aspx to be notified via email of new filings and issuances related to this or other pending projects. For assistance, contact FERC Online Support.

m. The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595, or OPP@ferc.gov.

n. Procedural Schedule: The application will be processed according to the following preliminary schedule. Revisions to the schedule will be made as appropriate.

Deficiency Letter (if necessary)—February 2025

Additional Information Request (if necessary)—April 2025

Notice of Acceptance—September 2025

Issue Notice of Ready for Environmental Analysis—September 2025

Filing of recommendations, preliminary terms and conditions, and fishway prescriptions—November 2025

Commission issues Draft EA—May 2026

Comments on Draft EA—June 2026

Commission issues Final EA—December 2026

o. Final amendments to the application must be filed with the Commission no later than 30 days from the issuance date of the notice of ready for environmental analysis.

Dated: February 5, 2025.
Debbie-Anne A. Reese,
Secretary.

[FR Doc. 2025-02473 Filed 2-10-25; 8:45 am]

BILLING CODE 6717-01-P